DEPARTMENT OF DEFENSE

Defense Finance and Accounting Service; Privacy Act of 1974; Systems of Records

AGENCY: Defense Finance and Accounting Service, DoD.

ACTION: Notice to add a new system of records.

SUMMARY: The Defense Finance and Accounting Service (DFAS) is proposing to add a system of records notice to its inventory of record systems subject to the Privacy Act of 1974, (5 U.S.C. 552a), as amended.

DATES: This action will be effective without further notice on December 20, 2004, unless comments are received that would result in a contrary determination.

ADDRESSES: Send comments to the FOIA/PA Program Manager, Office of Corporate Communications, Defense Finance and Accounting Service, 6760 E. Irvington Place, Denver, CO 80279-8000.

FOR FURTHER INFORMATION CONTACT: Ms. Linda Krabbenhoft at (303) 676-7514.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on October 28, 2004, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 12, 2004.
Jeannette Owings-Ballard,
OSD Federal Register Liaison Officer, Department of Defense.

T5010

System name:

DFAS Quarterly Pay Newsletter Email System.

System location:

Exact Target, 47 South Meridian, Suite 300, Indianapolis, IN 46204-3558.

Categories of individuals covered by the system:

Any individual that opts-in to receive the DFAS Quarterly Pay Newsletter via e-mail.

Categories of records in the system:

Individual's name, military service, status, pay grade, and email address.

Authority for maintenance of the system:

5 U.S.C. 301, Departmental Regulations and DoD FMR 7000.14-R, Vol. 7A, Military Pay Policy and Procedures—Active Duty and Reserve Pay.

Purpose(s):

To establish a database of customers who have subscribed to the DFAS Quarterly Pay Newsletter via email. The Newsletter informs the DFAS customer of current pay information and updates. The database will be used strictly to distribute this informative Newsletter via e-mail.

Routine uses of records maintained in the system, including categories of users and the purposes of such uses:

In addition to those disclosures generally permitted under 5 U.S.C. 552a(b) of the Privacy Act, these records or information contained therein may be disclosed outside the DoD as a routine use pursuant to 5 U.S.C. 552a(b)(3) as follows:

The DoD “Blanket Routine Uses” published at the beginning of the DFAS compilation of systems of records notices apply to this system.

Policies and practices for storing, retrieving, accessing, retaining, and disposing of records in the system:

Storage:

Records are maintained on electronic media and hard copy documents.

Retrievability:

Individual's name and e-mail address.

Safeguards:

Access to records is limited to individuals who are properly screened and cleared on a need-to-know basis in the performance of their official duties. Physical and electronic access is limited to persons responsible for creating and distributing the Newsletter via email. User ID's and passwords are used to control access to the systems data, and procedures are in place to deter and detect browsing and unauthorized access. The records will be stored on a secure server onsite at the contractors' location. The hosting facility security is fortified with fire suppression, security guard, personnel, camera monitoring, and servers held behind lock and key. Database security is ensured by secure user logins, state-of-the-art firewalls, and consistent database back-ups.

Retention and disposal:

Records are deleted when the information is superseded or obsolete, or when the individual chooses to opt-out of receiving the Newsletter.

System manager(s) and address:

Deputy Director for Military Pay Operations Product Line, Defense Finance and Accounting Service, Denver, 6760 E. Irvington Place, Denver, CO 80279-3000.

Notification procedure:

Individuals seeking to determine whether information about themselves is contained in this system of records should address written inquiries to the Defense Finance and Accounting Service, Office of Corporate Communications, Freedom of Information Act/Privacy Act Program Manager, 6760 E. Irvington Place, Denver, CO 80279-8000.

Individual should provide their full name, email address, current address, and telephone number.

Record access procedures:

Individuals seeking access to information about themselves contained in this system of records should address written inquiries to the Defense Finance and Accounting Service, Office of Corporate Communications, Freedom of Information Act/Privacy Act Program Manager, 6760 E. Irvington Place, Denver, CO 80279-8000.

Individual should provide their full name, email address, current address, and telephone number.

Contesting record procedures:

The DFAS rules for accessing records, for contesting contents and appealing initial agency determinations are published in DFAS Regulation 5400.11-R; 32 CFR part 324; or may be obtained from the Defense Finance and Accounting Service, Office of Corporate Communications, Freedom of Information Act/Privacy Act Program Manager, 6760 E. Irvington Place, Denver, CO 80279-8000.

Record source categories:

Information is obtained from any individual.

Exemptions claimed for the system:

None.

[FR Doc. 04-25633 Filed 11-17-04; 8:45 am]

BILLING CODE 5001-06-P